OFFICE OF THE UNITED STATES TRADE REPRESENTATIVE

Determination Not To Reinstate Action in Connection With the European Union's Measures Concerning Meat and Meat Products

AGENCY: Office of the United States Trade Representative.

ACTION: Notice.

SUMMARY: In December 2016, the U.S. Trade Representative initiated a proceeding to reinstate action against the European Union (EU) in order to exercise the WTO authorization to suspend concessions in connection with the dispute EC-Measures Concerning Meat and Meat Products. In light of successful negotiations with the EU to resolve U.S. concerns with the operation of the U.S.-EU Beef MOU, the U.S. Trade Representative has determined to conclude the proceeding with a determination not to reinstate action.

DATES: The proceeding is terminated effective January 1, 2020.

FOR FURTHER INFORMATION CONTACT: Roger Wentzel, Deputy Assistant U.S. Trade Representative for Agricultural Affairs at (202) 395-6127, David Weiner, Deputy Assistant U.S. Trade Representative for Europe at (202) 395-9679, or Amanda Blunt, Assistant General Counsel at (202) 395-9579.

SUPPLEMENTARY INFORMATION:

A. Background

For background prior to December 2016, please see the notice initiating this proceeding (81 FR 95724). On December 9, 2016, representatives of the U.S. beef industry requested that the U.S. Trade Representative reinstate action against the EU pursuant to Section 306(c) of the 1974 Trade Act, as amended (Trade Act) (19 U.S.C. 2416(c)). The primary concern of the U.S. industry was that non-U.S. exporters had been filling a substantial part of the 45,000 MT tariff-rate quota (TRQ) for high-quality beef (HQB) products established by the 2009 U.S.-EU Beef MOU, which denied the benefits to the United States expected under the MOU. Pursuant to this request, the U.S. Trade Representative initiated a proceeding under Section 306(c) to consider a reinstatement of action. The interagency Section 301 Committee held a public hearing on February 15 and 16, 2017, and received public comments in connection with the request.

Following the initiation of this proceeding, the United States entered into negotiations with the EU to address U.S. concerns with the operation of the HQB TRQ. The negotiations concluded successfully, with an agreement to allocate most of the HQB TRQ to the United States. On August 2, 2019, the EU and United States signed the Agreement on the Allocation to the United States of a Share in the Tariff Rate Quota for High Quality Beef Referred to in the Revised MOU Regarding the Importation of Beef from Animals Not Treated with Certain Grown-promoting Hormones and Increased Duties Applied by the United States to Certain Products of the European Union. Pursuant to this agreement, the EU will allocate to the United States 35,000 metric tons of the 45,000 metric tons HQB TRQ established under the 2009 U.S.-EU Beef MOU. The agreement is scheduled to go into effect on January 1, 2020.

B. Determination Not To Reinstate Action

In light of the successful negotiation to allocate the HQB TRQ established by the 2009 U.S.-EU Beef MOU, the U.S. Trade Representative has decided to conclude this proceeding under Section 306(c) of the Trade Act with a determination not to reinstate action, effective January 1, 2020. This determination has been made in consultation with the U.S. beef industry, and in accordance with the advice of the interagency Section 301 committee.

The United States continues to have an authorization to suspend concessions in connection with the dispute EC-Measures Concerning Meat and Meat Products. The U.S. Trade Representative will continue to monitor EU implementation of the MOU and other developments affecting market access for U.S. beef products. If implementation of the MOU and other developments do not proceed as contemplated, the Trade Representative may consider additional actions under Section 301 of the Trade Act.

Joseph Barloon,
General Counsel, Office of the U.S. Trade Representative.

[FR Doc. 2019-26924 Filed 12-12-19; 8:45 am]

BILLING CODE 3290-F0-P